ENVIRONMENTAL PROTECTION AGENCY

[ER-FRL-8988-4]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146 or http://www.epa.gov/compliance/nepa/.

An explanation of the ratings assigned to draft environmental impact statements (EISs) was published in FR dated July 17, 2009 (74 FR 34754).

Notice: In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, after March 31, 2010, EPA will discontinue the publication of this notice of availability of EPA comments in the Federal Register.

Draft EISs

EIS No. 20090272, ERP No. D-UAF-B11025-00, Modification of the Condor 1 and Condor 2 Military Operation Areas, 104th Fighter Wing of the Massachusetts Air National Guard Base (ANG) Proposes to Combine the Condor 1 and Condor 2 MOA, ME and NH.

Summary: EPA expressed environmental concerns about noise impacts, and recommended that ANG work with impacted residents, and to consider ways to better inform the public of training schedules. Rating EC2.

EIS No. 20090363, ERP No. D-SFW-G99004-TX, Hays County Regional Habitat Conservation Plan, Application for an Incidental Take Permit, Hays County, TX.

Summary: EPA does not object to the proposed action. Rating LO.

EIS No. 20090384, ERP No. D-NOA-K39124-CA, Fruit Growers Supply Company's Multi-Species Habitat Conservation Plan, Implementation, Authorization for Incidental Take Permit, Siskiyou County, CA.

Summary: EPA expressed environmental concern about water resource impacts, air quality impacts, the timing of road decommissioning and maintenance, and local requirements for timber harvest. Rating EC2.

EIS No. 20090402, ERP No. D-NRC-F06027-MN, Generic—License Renewal of Nuclear Plants for the Prairie Island Nuclear Generating Plant, Units 1 and 2, Supplement 39, NUREG-1437, Implementation, City of Red Wing, Dakota County, MN.

Summary: EPA expressed environmental concern about radiation, emergency access, wetlands, floodplains, environmental justice, and noise. Rating EC2.

EIS No. 20090419, ERP No. D-COE-F01003-MN, U.S. Steel Keetac Taconite Mine Expansion Project, Propose to Restart an Idled Production Line and Expand Contiguous Sections of the Open Pit Iron Ore Mine, located near Keewatin, Itasca and St. Louis Counties, MN.

Summary: EPA expressed environmental objections because of wetland impacts and insufficient avoidance, minimization/mitigation measures. EPA also offered comments on water quality and air quality impacts. Rating EO2.

EIS No. 20090426, ERP No. D-FRA-D53011-VA, Richmond and the Hampton Roads Passenger Rail Project, Proposed Higher Speed Intercity Passenger Rail, VA.

Summary: EPA expressed environmental concerns about air and water impacts. Rating EC2.

EIS No. 20090442, ERP No. D-COE-G39053-00, Sabine-Neches Waterway Channel Improvement Project, Proposed Ocean Dredged Material Disposal Site Designation, Southeast Texas and Southwest Louisiana.

Summary: EPA does not object to the proposed action. Rating LO.

Final EISs

EIS No. 20090016, ERP No. F-FAA-B40165-MA, New Bedford Regional Airport Improvements Project, To Enhance Aviation Capacity, Air Traffic, Jet Traffic, Air Cargo and General Aviation Traffic, Southeastern Massachusetts Region, City of New Bedford, Bristol County, MA.

Summary: EPA does not object the proposed project.

EIS No. 20090197, ERP No. F-WAP-J08026-00, Big Stone II Power Plant and Transmission Project, Addresses the Impacts of Changes to the Proposed Action relative to Cooling Alternatives and the Use of Groundwater as Backup Water Source, US Army COE Section 10 and 404 Permits, Grant County, SD and Big Stone County, MN.

Summary: EPA continues to have environmental concerns about CO2 emissions.

EIS No. 20090398, ERP No. F-BPA-L91029-WA, Chief Joseph Hatchery Program, Construction, Operation and Maintenance of a Chinook Salmon Hatchery Production Program, Confederated Tribes of the Colville Reservation (Colville Tribes), Okanogan River and Columbia River, Okanogan County, WA.

Summary: EPA continues to have environmental concerns about water quality impacts. EPA recommended including mitigation and terms and conditions in the ROD to protect water quality.

EIS No. 20090415, ERP No. F-FHW-F59004-MI, Detroit Intermodal Freight Terminal (DIFT) Project, Proposes Improvement to Intermodal Freight Terminals in Wayne and Oakland Counties, MI.

Summary: EPA reiterated its position about the need for a hot spot analysis for fine particulate matter. EPA also recommended the Record of Decision commit to additional construction and terminal operation mitigation measures.

EIS No. 20090428, ERP No. F-NOA-L91033-AK, Bering Sea Chinook Salmon Bycatch Management, Establish New Measures to Minimize Chinook Salmon Bycatch, To Amend the Fishery Management Plan, Implementation, Bering Sea Pollock Fishery, AK.

Summary: EPA's primary concerns were addressed; therefore, EPA does not object to the proposed amendment.

EIS No. 20090430, ERP No. F-AFS-L65550-00, Selway-Bitterroot Wilderness Plants Management Project, To Prevent the Establishment of New Invaders and Reduce the Impacts of Established Invasive Plants on Native Plant Community Stability, Sustainability and Diversity, Nez Perce, Clearwater, Lolo, and Bitterroot National Forests, ID and MT.

Summary: EPA does not object to the proposed project.

EIS No. 20090443, ERP No. F-FHW-D80032-DC,ADOPTION—Department of Homeland Security Headquarters at the St. Elizabeth's West Campus, To Consolidate Federal Office Space on a Secure Site, Washington, DC.

Summary: EPA continues to have environmental concerns about the East Campus resource impacts.

EIS No. 20090448, ERP No. F-FHW-L40228-WA, South Park Bridge Project, Proposes to Rehabilitate or Replace the Historic South Park Bridge over the Duwamish Waterway at 14th/16 Avenue S, US Coast Guard Permit and U.S. Army COE Section 10 and 404 Permits, King County, WA.

Summary: EPA continues to have environmental concerns about contaminated sediment impacts.

EIS No. 20100002, ERP No. F-AFS-K65380-NV, Middle Kyle Canyon Complex Project, Construction and Operation of a Recreation Complex within the Spring Mountains National Recreation Area, Humboldt-Toiyabe National Forest, Clark County, NV.

Summary: While EPA's previous issues have been resolved, EPA did request that mitigation plans developed for “biodiversity hotspots” are closely monitored and enforced.

Dated: February 23, 2010.
Robert W. Hargrove,
Director, NEPA Compliance Division, Office of Federal Activities.

[FR Doc. 2010-4021 Filed 2-25-10; 8:45 am]

BILLING CODE 6560-50-P